U.S. AGENCY FOR INTERNATIONAL DEVELOPMENT

Notice of Public Information Collection Requirements Submitted to OMB for Review

SUMMARY: U.S. Agency for International Development (USAID) has submitted the following information collection to OMB for review and clearance under the Paperwork Reduction Act of 1995. Comments regarding this information collection are best assured of having their full effect if received within 30 days of this notification. Comments should be addressed to: Desk Officer for USAID, Office of Information and Regulatory Affairs, Office of Management and Budget (OMB), 725 17th Street NW, Washington, DC 20503 or email address: OIRA_Submission@OMB.eop.gov. Copies of submission may be obtained by calling (202) 712-5007.

SUPPLEMENTARY INFORMATION:

OMB Number: OMB 0412-XXXX.

Form No.: AID 309-2.

Title: Offeror Information for Personal Services Contracts with Individuals.

Type: Renewal.

Purpose: United States Agency for International Development must collect information for reporting purposes to Congress and Office of Acquisition and Assistance Contract Administration. This form will be used to collect information to determine the most qualified person for a position without gathering information that may lead to discrimination or bias towards or gathered from applicant.

Annual Reporting Burden:

Respondents per request: 1.

Total annual responses: 12,684.

Total annual hours requested: 12,684.

Dated: March 6, 2018.
Lynn P. Winston,
Chief, Information and Records Division, FOIA Public Liaison, Agency Records Officer, U.S. Agency for International Development, Bureau for Management, Office of Management Service, Information and Records Division (M/MS/IRD), 1300 Pennsylvania Avenue NW, Suite 2.07-70, Washington, DC 20523.

[FR Doc. 2018-04879 Filed 3-14-18; 8:45 am]

BILLING CODE 6116-01-M